FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 012178.

Title: GWF/Crowley Space Charter Agreement.

Parties: Great White Fleet Liner Services Ltd. (GWF) and Crowley Latin American Services, LLC (“Crowley”).

Filing Party: Wade S. Hooker, Esquire, 211 Central Park W. New York, NY 10024.

Synopsis: The agreement authorizes Great Fleet Liner Services Ltd. to charter space from Crowley Latin America Services LLC in the trade from ports in Costa Rica and inland and coastal points via such ports and ports in Florida and U.S. inland and coastal points served via such ports.

Agreement No.: 012179.

Title: Hoegh/Farrell Space Charter and Cooperative Working Agreement.

Parties: Hoegh Autoliners AS and Farrell Lines Incorporated.

Filing Party: Wayne R. Rohde, Esquire; Cozen O'Connor; 1627 I Street NW., Suite 1100, Washington, DC 20006-4007.

Synopsis: The agreement authorizes Hoegh to charter space to Farrell for U.S. government-impelled cargo on an “as needed, as available” basis between worldwide ports including ports in the United States. It also authorizes the parties to engage in a limited range of cooperative working arrangements with respect to the movement of such cargo.

By Order of the Federal Maritime Commission.
Dated: July 6, 2012.
Karen V. Gregory,
Secretary.

[FR Doc. 2012-16924 Filed 7-10-12; 8:45 am]

BILLING CODE 6730-01-P